DEPARTMENT OF ENERGY

Federal Energy Regulatory Commission

[Docket No. ER03-13-002, et al.]

New York Independent System Operator, Inc., et al.; Electric Rate and Corporate Filings

January 9, 2003.

The following filings have been made with the Commission. The filings are listed in ascending order within each docket classification.

1. New York Independent System Operator, Inc.

[Docket No. ER03-13-002]

Take notice that on January 6, 2003, the New York Independent System Operator, Inc. (NYISO) filed a corrected version of the Unforced Capacity Deliverability compliance filing in accordance with the Commission's November 22, 2002 order in the above captioned hearing.

The NYISO has served a copy of this corrected filing to all parties that have executed Service Agreements under the NYISO's Open-Access Transmission Tariff or Services Tariff, the New York State Public Service Commission and to the electric utility regulatory agencies in New Jersey and Pennsylvania.

Comment Date: January 27, 2003.

2. Reliant Energy Electric Solutions, LLC

[Docket No. ER03-382-000]

Take notice that on January 7, 2003, Reliant Energy Electric Solutions, LLC (REES) petitioned the Federal Energy Regulatory Commission to grant certain blanket authorizations, to waive certain Commission's Regulations, and to issue an order accepting REES's FERC Electric Rate Schedule No. 1.

Comment Date: January 28, 2003.

3. Virginia Electric and Power Company

[Docket No. ER03-383-000]

Take notice that on January 7, 2003, Virginia Electric and Power Company, doing business as Dominion Virginia Power, tendered for filing a revised Generator Interconnection and Operating Agreement (Revised Interconnection Agreement) with Old Dominion Electric Cooperative (ODEC) containing an executed final letter enabling the energization of ODEC's generating facility in parallel operation with Dominion Virginia Power's transmission system.

Dominion Virginia Power requests that the Commission allow the Revised Interconnection Agreement to become effective January 8, 2003, the day after filing. Dominion Virginia Power also states that copies of the filing were served upon ODEC and the Virginia State Corporation Commission.

Comment Date: January 28, 2003.

4. Virginia Electric and Power Company

[Docket No. ER03-384-000]

Take notice that on January 7, 2003, Virginia Electric and Power Company, doing business as Dominion Virginia Power, tendered for filing a revised Generator Interconnection and Operating Agreement (Revised Interconnection Agreement) with Old Dominion Electric Cooperative (ODEC) containing an executed final letter enabling the energization of ODEC's generating facility in parallel operation with Dominion Virginia Power's transmission system.

Dominion Virginia Power requests that the Commission allow the Revised Interconnection Agreement to become effective January 8, 2003, the day after filing.

Dominion Virginia Power also states that copies of the filing were served upon ODEC and the Virginia State Corporation Commission.

Comment Date: January 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-1029 Filed 1-15-03; 8:45 am]

BILLING CODE 6717-01-P